DEPARTMENT OF TRANSPORTATION

Federal Aviation Administration

14 CFR Part 39

[Docket No. 2002-NM-178-AD]

RIN 2120-AA64

Airworthiness Directives; Empresa Brasileira de Aeronautica S.A. (EMBRAER) Model EMB-135 and -145 Series Airplanes

AGENCY: Federal Aviation Administration, DOT.

ACTION: Notice of proposed rulemaking (NPRM).

SUMMARY: This document proposes the supersedure of an existing airworthiness directive (AD), which is applicable to all Model EMB-135 and -145 series airplanes. That AD currently requires repetitive inspections to detect discrepancies of both vertical-to-horizontal stabilizer bonding jumpers and the connecting support structure, and corrective action if necessary. This action would require modification of the bonding jumpers, including the installation of a protective cover to the elevator control cables, which would terminate the requirements of the existing AD. The actions specified by the proposed AD are intended to prevent damaged or severed bonding jumpers, which, in the event of a lightning strike, could result in severed elevator control cables and consequent reduced elevator control capability and reduced controllability of the airplane. This action is intended to address the identified unsafe condition.

DATES: Comments must be received by January 2, 2004.

ADDRESSES: Submit comments in triplicate to the Federal Aviation Administration (FAA), Transport Airplane Directorate, ANM-114, Attention: Rules Docket No. 2002-NM-178-AD, 1601 Lind Avenue, SW., Renton, Washington 98055-4056. Comments may be inspected at this location between 9 a.m. and 3 p.m., Monday through Friday, except Federal holidays. Comments may be submitted via fax to (425) 227-1232. Comments may also be sent via the Internet using the following address: 9-anm-nprmcomment@faa.gov. Comments sent via fax or the Internet must contain “Docket No. 2002-NM-178-AD” in the subject line and need not be submitted in triplicate. Comments sent via the Internet as attached electronic files must be formatted in Microsoft Word 97 or 2000 or ASCII text.

The service information referenced in the proposed rule may be obtained from Empresa Brasileira de Aeronautica S.A. (EMBRAER), P.O. Box 343—CEP 12.225, Sao Jose dos Campos—SP, Brazil. This information may be examined at the FAA, Transport Airplane Directorate, 1601 Lind Avenue, SW., Renton, Washington.

FOR FURTHER INFORMATION CONTACT: Todd Thompson, Aerospace Engineer, International Branch, ANM-116, FAA, Transport Airplane Directorate, 1601 Lind Avenue, SW., Renton, Washington 98055-4056; telephone (425) 227-1175; fax (425) 227-1149.

SUPPLEMENTARY INFORMATION:

Comments Invited

Interested persons are invited to participate in the making of the proposed rule by submitting such written data, views, or arguments as they may desire. Communications shall identify the Rules Docket number and be submitted in triplicate to the address specified above. All communications received on or before the closing date for comments, specified above, will be considered before taking action on the proposed rule. The proposals contained in this action may be changed in light of the comments received.

Submit comments using the following format:

• Organize comments issue-by-issue. For example, discuss a request to change the compliance time and a request to change the service bulletin reference as two separate issues.

• For each issue, state what specific change to the proposed AD is being requested.

• Include justification (e.g., reasons or data) for each request.

Comments are specifically invited on the overall regulatory, economic, environmental, and energy aspects of the proposed rule. All comments submitted will be available, both before and after the closing date for comments, in the Rules Docket for examination by interested persons. A report summarizing each FAA-public contact concerned with the substance of this proposal will be filed in the Rules Docket.

Commenters wishing the FAA to acknowledge receipt of their comments submitted in response to this action must submit a self-addressed, stamped postcard on which the following statement is made: “Comments to Docket Number 2002-NM-178-AD.” The postcard will be date stamped and returned to the commenter.

Availability of NPRMs

Any person may obtain a copy of this NPRM by submitting a request to the FAA, Transport Airplane Directorate, ANM-114, Attention: Rules Docket No. 2002-NM-178-AD, 1601 Lind Avenue, SW., Renton, Washington 98055-4056.

Discussion

On August 13, 2001, the FAA issued AD 2001-17-04, amendment 39-12395 (66 FR 43678, August 21, 2001). That AD was superseded by AD 2002-08-21, amendment 12733 (67 FR 21572, May 1, 2002).

AD 2002-08-21 applies to all EMBRAER Model EMB-135 and -145 series airplanes. That AD requires repetitive inspections to detect discrepancies of both vertical-to-horizontal stabilizer bonding jumpers and the connecting support structure; and corrective action, if necessary. That action was prompted by issuance of mandatory continuing airworthiness information by the Departmento de Aviacao Civil (DAC), which is the airworthiness authority for Brazil. The requirements of AD 2002-08-21 are intended to prevent damaged or severed bonding jumpers, which, in the event of a lightning strike, could result in severed elevator control cables and consequent reduced elevator control capability and reduced controllability of the airplane.

Actions Since Issuance of Previous Rule

The preamble to AD 2002-08-21 explains that we consider those requirements “interim action” until we identify final action. We now have determined that further rulemaking is indeed necessary; this proposed AD follows from that determination.

Explanation of Relevant Service Information

AD 2002-08-21 cites the original issue of EMBRAER Service Bulletin 145-55-0028, dated April 10, 2002, as the appropriate source of service information for accomplishment of the repetitive inspections of paragraph (f) of AD 2002-08-21. Change 02 of the service bulletin, dated February 27, 2003, includes corrections of certain in-production effectivity and part number information, but doesn't change the procedures. The DAC classified this service bulletin as mandatory and issued Brazilian airworthiness directive 2001-06-03R2, dated June 24, 2002, to ensure the continued airworthiness of these airplanes in Brazil.

FAA's Conclusions

These airplane models are manufactured in Brazil and are type certificated for operation in the United States under the provisions of section 21.29 of the Federal Aviation Regulations (14 CFR 21.29) and the applicable bilateral airworthiness agreement. Pursuant to this bilateral airworthiness agreement, the DAC has kept us informed of the situation described above. We have examined the findings of the DAC, reviewed all available information, and determined that AD action is necessary for products of this type design that are certificated for operation in the United States.

Explanation of Requirements of Proposed Rule

Since an unsafe condition has been identified that is likely to exist or develop on other airplanes of the same type design registered in the United States, the proposed AD would supersede AD 2002-08-21 to continue to require repetitive inspections to detect discrepancies of both vertical-to-horizontal stabilizer bonding jumpers and the connecting support structure; and corrective action if necessary. The proposed AD would also require modification of the bonding jumpers, including the installation of a protective cover to the elevator control cables, which would terminate the requirements of the existing AD. The proposed AD would remove the existing reporting requirement. The actions would be required to be accomplished in accordance with EMBRAER Service Bulletins 145-55-0025 and 145-55-0028, described previously.

Explanation of Changes Made to Existing AD

We have changed all references to a “detailed visual inspection” in the existing AD to “detailed inspection” in this proposed AD.

We have reviewed the figures we have used over the past several years to calculate AD costs to operators. To account for various inflationary costs in the airline industry, we find it necessary to increase the labor rate used in these calculations from $60 per work hour to $65 per work hour. The cost impact information, below, reflects this increase in the specified hourly labor rate.

Cost Impact

There are approximately 360 airplanes of U.S. registry that would be affected by this proposed AD.

The actions that are currently required by AD 2002-08-21 take approximately 2 work hours per airplane to accomplish, at an average labor rate of $65 per work hour. Based on these figures, the cost impact of the currently required actions on U.S. operators is estimated to be $46,800, or $130 per airplane, per inspection cycle.

The terminating action proposed in this AD action would take approximately 6 work hours per airplane, at an average labor rate of $65 per work hour. Required parts would cost approximately $206 per airplane. Based on these figures, the cost impact of the proposed requirements of this AD on U.S. operators is estimated to be $214,560, or $596 per airplane.

The cost impact figures discussed above are based on assumptions that no operator has yet accomplished any of the current or proposed requirements of this AD action, and that no operator would accomplish those actions in the future if this AD were not adopted. The cost impact figures discussed in AD rulemaking actions represent only the time necessary to perform the specific actions actually required by the AD. These figures typically do not include incidental costs, such as the time required to gain access and close up, planning time, or time necessitated by other administrative actions.

Regulatory Impact

The regulations proposed herein would not have a substantial direct effect on the States, on the relationship between the national Government and the States, or on the distribution of power and responsibilities among the various levels of government. Therefore, it is determined that this proposal would not have federalism implications under Executive Order 13132.

For the reasons discussed above, I certify that this proposed regulation (1) is not a “significant regulatory action” under Executive Order 12866; (2) is not a “significant rule” under the DOT Regulatory Policies and Procedures (44 FR 11034, February 26, 1979); and (3) if promulgated, will not have a significant economic impact, positive or negative, on a substantial number of small entities under the criteria of the Regulatory Flexibility Act. A copy of the draft regulatory evaluation prepared for this action is contained in the Rules Docket. A copy of it may be obtained by contacting the Rules Docket at the location provided under the caption ADDRESSES.

List of Subjects in 14 CFR Part 39

Air transportation, Aircraft, Aviation safety, Safety.

The Proposed Amendment

Accordingly, pursuant to the authority delegated to me by the Administrator, the Federal Aviation Administration proposes to amend part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by removing amendment 39-12733 (67 FR 21572, May 1, 2002), and by adding a new airworthiness directive (AD), to read as follows:

Empresa Brasileira de Aeronautica S.A. (EMBRAER): Docket 2002-NM-178-AD. Supersedes AD 2002-08-21, Amendment 39-12733.

Applicability: All Model EMB-135 and -145 series airplanes; certificated in any category.

Compliance: Required as indicated, unless accomplished previously.

To prevent damaged or severed bonding jumpers, which, in the event of a lightning strike, could result in severed elevator control cables and consequent reduced elevator control capability and reduced controllability of the airplane, accomplish the following:

Restatement of Requirements of AD 2002-08-21

Inspection of the Bonding Jumpers

(a) For airplanes subject to the requirements of AD 2001-17-04, amendment 39-12395 (which was superseded by AD 2002-08-21, amendment 12733): Except as provided by paragraph (f) of this AD, within the next 100 flight hours after September 5, 2001 (the effective date of AD 2001-17-04), perform a detailed inspection to determine if the two bonding jumpers that connect the horizontal to the vertical stabilizers are properly installed, per EMBRAER Alert Service Bulletin 145-55-A025, dated June 5, 2001.

Note 1: For the purposes of this AD, a detailed inspection is defined as: “An intensive visual examination of a specific structural area, system, installation, or assembly to detect damage, failure, or irregularity. Available lighting is normally supplemented with a direct source of good lighting at intensity deemed appropriate by the inspector. Inspection aids such as mirror, magnifying lenses, etc., may be used. Surface cleaning and elaborate access procedures may be required.”

Follow-On Action

(b) For airplanes subject to the requirements of paragraph (a) of this AD: If both bonding jumpers are installed properly, before further flight, determine if the jumpers are mechanically tensioned to a slack distance of 5 millimeters (mm) or less between the reference line and the jumper as specified in View E of EMBRAER Alert Service Bulletin 145-55-A025, dated June 5, 2001.

(1) If any slack distance is 5 mm or less, before further flight, replace the bonding jumper with a new jumper having part number (P/N) LN926416X165, per the alert service bulletin.

(2) If any slack distance is 6 mm or more, at the time specified in paragraph (d) of this AD, accomplish those actions specified in paragraph (d) of this AD.

Corrective Actions

(c) For airplanes subject to the requirements of paragraph (a) of this AD: If either bonding jumper is not installed properly (e.g., misaligned, signs of previous elongation, or damage), before further flight, replace the bonding jumper with a new jumper having P/N LN926416X165, per EMBRAER Alert Service Bulletin 145-55-A025, dated June 5, 2001.

Inspection of the Connecting Supports

(d) For airplanes subject to the requirements of AD 2001-17-04: Within the next 100 flight hours after September 5, 2001, perform a detailed inspection to determine if the supports that connect the bonding jumpers to the horizontal stabilizers are deformed, cracked, or ruptured; per EMBRAER Alert Service Bulletin 145-55-A025, dated June 5, 2001.

(1) If no deformation is detected, no further action is required by this paragraph.

(2) If any connecting support having deformation of 30 degrees or less has any sign of a painting discrepancy, before further flight, repaint the support per the alert service bulletin. The support must remain in the position it was found, as specified in the alert service bulletin.

(3) If any connecting support is deformed above 30 degrees or any signs of cracking or ruptures are detected, before further flight, replace the connecting support with a new support per the alert service bulletin.

(e) For airplanes subject to the requirements of AD 2001-17-04: If the inspection required by paragraph (f) of this AD is performed before the inspections specified in paragraphs (a) and (d) of this AD, it is not necessary to perform the inspections specified in paragraphs (a) and (d) of this AD.

Repetitive Inspections

(f) For all airplanes: Except as required by paragraphs (h) and (i) of this AD, within 100 flight hours after May 16, 2002 (the effective date of AD 2002-08-21), perform a detailed inspection as specified in paragraphs (f)(1) and (f)(2) of this AD, per EMBRAER Alert Service Bulletin 145-55-A028, dated April 10, 2002; or Change 02, dated February 27, 2003. If any discrepancy is found during any inspection required by this paragraph: Before further flight, perform applicable corrective actions (including replacing any discrepant part with a new part and restoring the support painting) per the alert service bulletin. Repeat the inspection at intervals not to exceed 800 flight hours, except as provided by paragraphs (h) and (i) of this AD.

(1) Inspect both bonding jumpers of the vertical-to-horizontal stabilizer to detect discrepancies (including overstretching, fraying, or other damage; and misaligned or otherwise incorrectly installed bonding jumper terminals).

(2) Inspect the connecting support structure to detect deformation or signs of cracks or ruptures, and, before further flight, inspect the general conditions of the paint of any discrepant support.

(g) Inspections done before the effective date of this AD per EMBRAER Service Bulletin 145-55-A028, Change 01, dated June 7, 2002, are acceptable for compliance with the requirements of paragraph (f) of this AD.

Conditional Requirements for Immediate Inspection

(h) Notwithstanding the requirements of paragraph (f) of this AD: Before further flight following removal of any parts identified in paragraphs (h)(1), (h)(2), and (h)(3) of this AD, perform the inspection specified in paragraph (f) of this AD. The task numbers below are identified in EMBRAER Aircraft Maintenance Manuals AMM-145/1124 and AMM-145/1230.

(1) The horizontal stabilizer (as specified in EMBRAER Airplane Maintenance Manual (AMM) task number 55-10-00-000-801-A).

(2) The horizontal stabilizer actuator (as specified in AMM task number 27-40-02-000-801-A).

(3) The left-hand or right-hand seal fairings (as specified in AMM task number 55-36-00-020-002-A00).

(i) Before further flight following a lightning strike, perform a “Lightning Strike—Inspection Check” and applicable corrective actions, per AMM task number 05-50-01-06.

Note 2: Following accomplishment of an inspection per paragraph (h) or (i) of this AD, the repetitive interval of the next inspection may be extended to 800 flight hours after accomplishment of the inspection required by paragraph (h) or (i) of this AD, as applicable.

New Requirements of This AD

Terminating Action

(j) Within 800 flight hours after the effective date of this AD, modify the bonding jumpers, including installing a protective cover for the elevator control cables, in accordance with Part II of the Accomplishment Instructions of EMBRAER Service Bulletin 145-55-0028, Change 02, dated February 27, 2003. Accomplishment of this modification terminates the requirements of this AD.

(k) A modification done before the effective date of this AD per EMBRAER Service Bulletin 145-55-0028, Change 01, dated June 7, 2002, is acceptable for compliance with the requirements of paragraph (j) of this AD.

Alternative Methods of Compliance

(l) In accordance with 14 CFR 39.19, the Manager, International Branch, ANM-116, Transport Airplane Directorate, FAA, is authorized to approve alternative methods of compliance for this AD.

Note 3: The subject of this AD is addressed in Brazilian airworthiness directive 2001-06-03R2, dated June 24, 2002.

Issued in Renton, Washington, on November 26, 2003.
Kalene C. Yanamura,
Acting Manager, Transport Airplane Directorate, Aircraft Certification Service.

[FR Doc. 03-30116 Filed 12-2-03; 8:45 am]

BILLING CODE 4910-13-P